POSTAL REGULATORY COMMISSION

39 CFR Part 3060

[Docket No. RM2009-9; Order No. 287]

Competitive Postal Products

AGENCY: Postal Regulatory Commission.

ACTION: Proposed rule.

SUMMARY: This document announces a proposed rulemaking in response to a recent Postal Service filing of a proposed methodology for the allocation of assets and liabilities in theoretical competitive enterprise.

DATES: Submit comments on or before October 23, 2009. Submit reply comments on or before November 23, 2009.

ADDRESSES: Submit comments electronically via the Commission's electronic Filing Online system at http://www.prc.gov.

FOR FURTHER INFORMATION CONTACT: Stephen L. Sharfman, General Counsel, at 202-789-6820 or stephen.sharfman@prc.gov.

SUPPLEMENTARY INFORMATION: Regulatory History, 73 FR 79256 (December 24, 2008).

In PRC Order No. 151, which established financial accounting practices and tax rules for competitive products, the Commission directed the Postal Service to develop the assets and liabilities of the theoretical competitive products enterprise by identifying all asset and liability accounts within its Chart of Accounts used solely for the provision of (a) competitive products or (b) market dominant products, and for those not identified with either, to submit for Commission approval a proposed methodology detailing how each asset and liability account identified in the Chart of Accounts shall be allocated to the theoretical competitive products enterprise.¹ See 39 CFR 3060.12 and 3060.13; see also Order No. 151 at 17-18.

¹ See Docket No. RM2008-5, PRC Order No. 151, Order Establishing Tax Rules and Accounting Practices for Competitive Products, December 18, 2009 (Order No. 151).

In satisfaction of that requirement, on July 23, 2009, the Postal Service filed a proposed methodology for the allocation of assets and liabilities to the theoretical competitive enterprise.² The Postal Service avers that, with “few exceptions,” the proposed methodology tracks that used by the Commission in PRC-LR-1 in Docket No. RM2008-5. Id. at 1-2. The differences concern the following entries:

² Notice of United States Postal Service Regarding Proposed Methodology for the Allocation of Assets and Liabilities to Competitive Products, July 23, 2009 (Notice).

1. Asset: Supplies, Advances, and Prepayments—the Postal Service allocation is based on total revenues; the Commission did not propose an allocation;

2. Liability: Payables and Accrued Expenses—the Postal Service allocation is based on total revenues; the Commission did not propose an allocation;

3. Liability: Customer Deposit Accounts—the Postal Service allocation is based on total revenues; the Commission allocation is limited to a specific account, Expedited Mail Advance Deposit;

4. Liability: Outstanding Postal Money Orders—the Postal Service allocation is based on actual Outstanding International Money Orders; the Commission did not propose an allocation; and

5. Liability: Deferred Gains on Sales of Property—the Postal Service did not propose an allocation; the Commission allocation is based on Building Depreciation Expenses.

The Notice, which is available on the Commission's Web site, http://www.prc.gov, includes a spreadsheet showing the Commission's and the Postal Service's proposed allocation procedures. The Notice also provides rationales for the Postal Service's proposals.

Interested persons are invited to comment on the Postal Service's proposed methodology and may propose alternative methodologies. Comments are due no later than 45 days after publication of this order in the Federal Register. Reply comments are due no later than 75 days after publication of this order in the Federal Register.

The Commission designates Patricia A. Gallagher to represent the interests of the general public in this proceeding.

It is ordered:

1. The Commission establishes Docket No. RM2009-9 to consider the matters related to the allocation of assets and liabilities to the theoretical competitive products enterprise.

2. Interested persons may submit initial comments within 45 days of publication of this order in the Federal Register.

3. Interested persons may submit reply comments within 75 days of publication of this Order in the Federal Register.

4. Pursuant to 39 U.S.C. 505, Patricia A. Gallagher is designated to serve as the Public Representative representing the interests of the general public in this proceeding.

5. The Secretary shall arrange for publication of this Notice in the Federal Register.

Authority: 39 U.S.C. 503, 2011, 3633, 3634.

Issued: August 24, 2009.
By the Commission.
Judith M. Grady,
Acting Secretary.

[FR Doc. E9-21476 Filed 9-4-09; 8:45 am]

BILLING CODE 7710-FW-P